COMMITTEE FOR THE IMPLEMENTATION OF TEXTILE AGREEMENTS

Announcement of Import Limits for Certain Cotton, Wool, Man-Made Fiber, Silk Blend and Other Vegetable Fiber Textiles and Textile Products Produced or Manufactured in the People's Republic of China and and Amendment of Export Visa and Certification Requirements for Textiles and Textile Products Integrated into GATT 1994 in the First, Second and Third Stage

December 20, 2001

AGENCY: Committee for the Implementation of Textile Agreements (CITA).

ACTION: Issuing a directive to the Commissioner of Customs establishing the 2002 limits and amending visa requirements.

EFFECTIVE DATE: January 1, 2002.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The import restraint limits for textile products, produced or manufactured in China and exported during the period January 1, 2002 through December 31, 2002 are based on limits to be notified to the Textiles Monitoring Body pursuant to the World Trade Organization (WTO) Agreement on Textiles and Clothing (ATC).

The ATC provides for the staged integration of textiles and textile products into the General Agreement on Tariffs and Trade (GATT) 1994. For WTO members, the first stage of the integration took place on January 1, 1995 and the second stage took place on January 1, 1998. The products to be integrated in each stage were announced on April 26, 1995 (see 60 FR 21075, published on May 1, 1995 and 63 FR 53881, published on October 7, 1998).

The third stage of the integration will take place on January 1, 2002 (see 60 FR 21075, published on May 1, 1995). The United States will implement the first three stages of integration for China on that date. Accordingly, certain previously restrained categories have been modified and their limits have been revised, and other categories have been eliminated. Integrated products will no longer be subject to quota. This directive implements stages one, two and three of integration and agreed annual growth, but does not apply accelerated growth. CITA will amend China’s quotas by applying accelerated quota growth at a later date.

In the letter published below, the Chairman of CITA directs the Commissioner of Customs to establish the 2002 limits.

The United States will not maintain quota and visa requirements on textiles and textile products that were integrated in stages one, two and three, that were produced or manufactured in China and exported on or after December 11, 2001 (for products integrated in stages one and two), and January 1, 2002 (for products integrated in stage three). In the letter published below, the Chairman of CITA directs the Commissioner of Customs to eliminate existing quota and visa requirements for textiles and textile products that were integrated for WTO members on January 1, 1995 and January 1, 1998, and exported on or after December 11, 2001, produced or manufactured in China (see 66 FR 63225, published on December 5, 2001). The letter also directs the Commissioner to eliminate existing quota and visa requirements for textiles and textile products that were integrated on January 1, 2002, and exported on and after that date. The existing quota and visa requirements for China will be maintained for goods exported prior to integration. Goods integrated in stages one, two and three will no longer require exempt certification.

A description of the textile and apparel categories in terms of HTS numbers is available in the CORRELATION: Textile and Apparel Categories with the Harmonized Tariff Schedule of the United States (see Federal Register notice 66 FR 65178, published on December 18, 2001).

D. Michael Hutchinson,
Acting Chairman, Committee for the Implementation of Textile Agreements.

Committee for the Implementation of Textile Agreements

December 20, 2001

Commissioner of Customs,

Department of the Treasury, Washington, DC 20229.

Dear Commissioner: Pursuant to Section 204 of the Agricultural Act of 1956, as amended (7 U.S.C. 1854); Executive Order 11651 of March 3, 1972, as amended; and the Uruguay Round Agreement on Textiles and Clothing (ATC), you are directed to prohibit, effective on January 1, 2002, entry into the United States for consumption and withdrawal from warehouse for consumption of cotton, wool, man-made fiber, silk blend and other vegetable fiber textiles and textile products in the following categories, produced or manufactured in China and exported during the twelve-month period beginning on January 1, 2002 and extending through December 31, 2002, in excess of the following levels of restraint:

Category | Twelve-month limit
Group I |
200, 218, 219, 226, 237, 300/301, 313-315, 317/326, 331pt. ¹, 333-336, 338/339, 340-342, 345, 347/348, 351, 352, 359-C ², 359-V ³, 360-363, 410, 433-436, 438, 440, 442-444, 445/446, 447, 448, 611, 613-615, 617, 631pt. ⁴, 633-636, 638/639, 640-643, 644, 645/646, 647, 648, 651, 652, 659-C ⁵, 659-H ⁶, 659-S ⁷, 666pt. ⁸, 845 and 846, as a group | 1,166,909,854 square meters equivalent.
Sublevels in Group I |
200 | 806,465 kilograms.
218 | 11,894,852 square meters.
219 | 2,615,324 square meters.
226 | 11,875,471 square meters.
237 | 2,208,501 dozen.
300/301 | 2,392,195 kilograms.
313 | 44,497,362 square meters.
314 | 53,482,625 square meters.
315 | 139,869,297 square meters.
317/326 | 23,574,649 square meters of which not more than 4,510,294 square meters shall be in Category 326.
331pt. | 2,182,262 dozen pairs.
333 | 108,322 dozen.
334 | 340,681 dozen.
335 | 394,153 dozen.
336 | 187,293 dozen.
338/339 | 2,369,131 dozen of which not more than 1,798,430 dozen shall be in Categories 338-S/339-S ⁹.
340 | 811,310 dozen of which not more than 405,653 dozen shall be in Category 340-Z ¹⁰.
341 | 702,993 dozen of which not more than 421,796 dozen shall be in Category 341-Y ¹¹.
342 | 277,424 dozen.
345 | 129,808 dozen.
347/348 | 2,360,641 dozen.
351 | 616,145 dozen.
352 | 1,670,292 dozen.
359-C | 668,278 kilograms.
359-V | 945,532 kilograms.
360 | 8,568,821 numbers of which not more than 5,844,764 numbers shall be in Category 360-P ¹².
361 | 4,653,809 numbers.
362 | 7,691,848 numbers.
363 | 22,606,232 numbers.
410 | 1,029,319 square meters of which not more than 825,111 square meters shall be in Category 410-A ¹³ and not more than 825,111 square meters shall be in Category 410-B ¹⁴.
433 | 21,166 dozen.
434 | 13,533 dozen.
435 | 24,856 dozen.
436 | 15,313 dozen.
438 | 26,797 dozen.
440 | 38,285 dozen of which not more than 21,876 dozen shall be in Category 440-M ¹⁵.
442 | 40,526 dozen.
443 | 130,926 numbers.
444 | 213,186 numbers.
445/446 | 288,910 dozen.
447 | 71,682 dozen.
448 | 22,613 dozen.
611 | 5,842,402 square meters.
613 | 8,266,993 square meters.
614 | 12,990,987 square meters.
615 | 27,044,876 square meters.
617 | 18,895,981 square meters.
631pt. | 316,495 dozen pairs.
633 | 61,450 dozen.
634 | 668,535 dozen.
635 | 705,188 dozen.
636 | 569,258 dozen.
638/639 | 2,510,680 dozen.
640 | 1,407,471 dozen.
641 | 1,333,287 dozen.
642 | 365,581 dozen.
643 | 541,130 numbers.
644 | 3,610,330 numbers.
645/646 | 830,040 dozen.
647 | 1,618,411 dozen.
648 | 1,156,344 dozen.
651 | 829,339 dozen of which not more than 146,011 dozen shall be in Category 651-B ¹⁶.
652 | 3,060,771 dozen.
659-C | 439,060 kilograms.
659-H | 3,066,720 kilograms.
659-S | 672,958 kilograms.
666pt. | 514,992 kilograms.
845 | 2,474,275 dozen.
846 | 184,534 dozen.
Group II |
332, 359-O ¹⁷, 459pt. ¹⁸ and 659-O ¹⁹, as a group | 40,686,683 square meters equivalent.
Group III |
201, 220, 224-V ²⁰, 224-O ²¹, 225, 227, 369-O ²², 400, 414, 469pt. ²³, 603, 604-O ²⁴, 618-620 and 624-629, as a group | 48,037,946 square meters equivalent.
Sublevel in Group III |
224-V | 3,934,899 square meters.
225 | 6,788,450 square meters.
Group IV |
852 | 367,732 square meters equivalent.
Levels not in a Group |
369-S ²⁵ | 617,516 kilograms.
863-S ²⁶ | 8,792,197 numbers.

¹ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
² Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010.
³ Category 359-V: only HTS numbers 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070.
⁴ Category 631pt.: all HTS numbers except 6116.10.1730, 6116.10.4820, 6116.10.5520, 6116.10.7520, 6116.93.8800, 6116.93.9400, 6116.99.4800, 6116.99.5400 and 6116.99.9530.
⁵ Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁶ Category 659-H: only HTS numbers 6502.00.9030, 6504.00.9015, 6504.00.9060, 6505.90.5090, 6505.90.6090, 6505.90.7090 and 6505.90.8090.
⁷ Category 659-S: only HTS numbers 6112.31.0010, 6112.31.0020, 6112.41.0010, 6112.41.0020, 6112.41.0030, 6112.41.0040, 6211.11.1010, 6211.11.1020, 6211.12.1010 and 6211.12.1020.
⁸ Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9984, 9404.90.8522 and 9404.90.9522.
⁹ Category 338-S: all HTS numbers except 6109.10.0012, 6109.10.0014, 6109.10.0018 and 6109.10.0023; Category 339-S: all HTS numbers except 6109.10.0040, 6109.10.0045, 6109.10.0060 and 6109.10.0065.
¹⁰ Category 340-Z: only HTS numbers 6205.20.2015, 6205.20.2020, 6205.20.2050 and 6205.20.2060.
¹¹ Category 341-Y: only HTS numbers 6204.22.3060, 6206.30.3010, 6206.30.3030 and 6211.42.0054.
¹² Category 360-P: only HTS numbers 6302.21.3010, 6302.21.5010, 6302.21.7010, 6302.21.9010, 6302.31.3010, 6302.31.5010, 6302.31.7010 and 6302.31.9010.
¹³ Category 410-A: only HTS numbers 5111.11.3000, 5111.11.7030, 5111.11.7060, 5111.19.2000, 5111.19.6020, 5111.19.6040, 5111.19.6060, 5111.19.6080, 5111.20.9000, 5111.30.9000, 5111.90.3000, 5111.90.9000, 5212.11.1010, 5212.12.1010, 5212.13.1010, 5212.14.1010, 5212.15.1010, 5212.21.1010, 5212.22.1010, 5212.23.1010, 5212.24.1010, 5212.25.1010, 5311.00.2000, 5407.91.0510, 5407.92.0510, 5407.93.0510, 5407.94.0510, 5408.31.0510, 5408.32.0510, 5408.33.0510, 5408.34.0510, 5515.13.0510, 5515.22.0510, 5515.92.0510, 5516.31.0510, 5516.32.0510, 5516.33.0510, 5516.34.0510 and 6301.20.0020.
¹⁴ Category 410-B: only HTS numbers 5007.10.6030, 5007.90.6030, 5112.11.3030, 5112.11.3060, 5112.11.6030, 5112.11.6060, 5112.19.6010, 5112.19.6020, 5112.19.6030, 5112.19.6040, 5112.19.6050, 5112.19.6060, 5112.19.9510, 5112.19.9520, 5112.19.9530, 5112.19.9540, 5112.19.9550, 5112.19.9560, 5112.20.3000, 5112.30.3000, 5112.90.3000, 5112.90.9010, 5112.90.9090, 5212.11.1020, 5212.12.1020, 5212.13.1020, 5212.14.1020, 5212.15.1020, 5212.21.1020, 5212.22.1020, 5212.23.1020, 5212.24.1020, 5212.25.1020, 5309.21.2000, 5309.29.2000, 5407.91.0520, 5407.92.0520, 5407.93.0520, 5407.94.0520, 5408.31.0520, 5408.32.0520, 5408.33.0520, 5408.34.0520, 5515.13.0520, 5515.22.0520, 5515.92.0520, 5516.31.0520, 5516.32.0520, 5516.33.0520 and 5516.34.0520.
¹⁵ Category 440-M: only HTS numbers 6203.21.9030, 6203.23.0030, 6205.10.1000, 6205.10.2010, 6205.10.2020, 6205.30.1510, 6205.30.1520, 6205.90.3020, 6205.90.4020 and 6211.31.0030.
¹⁶ Category 651-B: only HTS numbers 6107.22.0015 and 6108.32.0015.
¹⁷ Category 359-O: all HTS numbers except 6103.42.2025, 6103.49.8034, 6104.62.1020, 6104.69.8010, 6114.20.0048, 6114.20.0052, 6203.42.2010, 6203.42.2090, 6204.62.2010, 6211.32.0010, 6211.32.0025, 6211.42.0010 (Category 359-C); 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070 (Category 359-V); 6115.19.8010, 6117.10.6010, 6117.20.9010, 6203.22.1000, 6204.22.1000, 6212.90.0010, 6214.90.0010, 6406.99.1550, 6505.90.1525, 6505.90.1540, 6505.90.2060 and 6505.90.2545.
¹⁸ Category 459pt.: all HTS numbers except 6115.19.8020, 6117.10.1000, 6117.10.2010, 6117.20.9020, 6212.90.0020, 6214.20.0000, 6405.20.6030, 6405.20.6060, 6405.20.6090, 6406.99.1505, 6406.99.1560.
¹⁹ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010 and 6211.12.1020 (Category 659-S); 6115.11.0010, 6115.12.2000, 6117.10.2030, 6117.20.9030, 6212.90.0030, 6214.30.0000, 6214.40.0000, 6406.99.1510 and 6406.99.1540.
²⁰ Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020.
²¹ Category 224-O: all HTS numbers except 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36.0020 (Category 224-V).
²² Category 369-O: all HTS numbers except 6307.10.2005 (Category 369-S); 4202.12.4000, 4202.12.8020, 4202.12.8060, 4202.22.4020, 4202.22.4500, 4202.22.8030, 4202.32.4000, 4202.32.9530, 4202.92.1500, 4202.92.3016, 4202.92.6091, 5601.10.1000, 5601.21.0090, 5701.90.1020, 5701.90.2020, 5702.10.9020, 5702.39.2010, 5702.49.1020, 5702.49.1080, 5702.59.1000, 5702.99.1010, 5702.99.1090, 5705.00.2020, 5805.00.3000, 5807.10.0510, 5807.90.0510, 6301.30.0010, 6301.30.0020, 6302.51.1000, 6302.51.2000, 6302.51.3000, 6302.51.4000, 6302.60.0010, 6302.60.0030, 6302.91.0005, 6302.21.0025, 6302.91.0045, 6302.91.0050, 6302.91.0060, 6303.11.0000, 6303.91.0010, 6303.91.0020, 6304.91.0020, 6304.92.0000, 6305.20.0000, 6306.11.0000, 6307.10.0020, 6307.10.1090, 6307.90.3010, 6307.90.4010, 6307.90.5010, 6307.90.8910, 6307.90.8945, 6307.90.9905, 6307.90.9982, 6406.10.7700, 9404.90.1000, 9404.90.8040 and 9404.90.9505.
²³ Category 469pt.: all HTS numbers except 5601.29.0020, 5603.94.1010, 6304.19.3040, 6304.91.0050, 6304.99.1500, 6304.99.6010, 6308.00.0010 and 6406.10.9020.
²⁴ Category 604-O: all HTS numbers except 5509.32.0000 (Category 604-A).
²⁵ Category 369-S: only HTS number 6307.10.2005.
²⁶ Category 863-S: only HTS number 6307.10.2015.

The limits set forth above are subject to adjustment pursuant to the provisions of the ATC and administrative arrangements notified to the Textiles Monitoring Body.

Products exported during 2001 shall be charged to the applicable category limits for that year (see directive dated December 20, 2000) to the extent of any unfilled balances. In the event the limits established for that period have been exhausted by previous entries, such products shall be charged to the limits set forth in this directive. You are also directed to amend the directive dated December 20, 2000 (65 FR 81846, published on December 27, 2000).

Products to be integrated into the General Agreement on Tariffs and Trade (GATT) 1994 in stage three (listed in the Federal Register notice published on May 1, 1995, 60 FR 21075) which are exported during 2001 shall be charged to the applicable 2001 limits to the extent of any unfilled balances. After January 1, 2002, should those 2001 limits be filled, such products shall no longer be charged to any limit. Products integrated into GATT 1994 in stages one and two which are exported prior to December 11, 2001 shall be charged to the applicable 2001 limits to the extent of any unfilled balances. After that date, should those 2001 limits be filled, such products shall no longer be charged to any limit.

You are further directed to amend the current quota and visa requirements for certain textiles and textile products produced or manufactured in China and exported on or after December 11, 2001 and December 31, 2001.

Effective on January 1, 2002, for goods exported on or after December 11, 2001, quotas will be removed and export visas will not be required for textiles and textile products produced or manufactured in China that were integrated into GATT 1994 on January 1, 1995 and January 1, 1998 (see directive dated November 29, 2001, 66 FR 63225, published on December 5, 2001). Export visas will continue to be required for such products that were exported prior to December 11, 2001. Effective January 1, 2002, for goods exported on or after that date, quotas will be removed and export visas will not be required for textiles and textile products produced or manufactured in China that were integrated into GATT 1994 on January 1, 2002. Export visas will continue to be required by such products that were exported prior to January 1, 2002.

The Committee for the Implementation of Textile Agreements has determined that these actions fall within the foreign affairs exception to the rulemaking provisions of 5 U.S.C. 553(a)(1).

D. Michael Hutchinson,

Acting Committee for the Implementation of Textile Agreements.

[FR Doc. 01-31860 Filed 12-27-01; 8:45 am]

BILLING CODE 3510-DR-S